DEPARTMENT OF THE INTERIOR

Performance Review Board Appointments

AGENCY: Department of the Interior.

ACTION: Notice of Performance Review Board Appointments.

SUMMARY: This notice provides the names of individuals who have been appointed to serve as members of the Department of the Interior Performance Review Board.

DATES: These appointments are effective upon publication in the Federal Register.

FOR FURTHER INFORMATION CONTACT: Carolyn Cohen, Director of Personnel Policy, Office of the Secretary, Department of the Interior, 1849 C Street, NW., Washington, DC 20240, Telephone Number: (202) 208-6761.

2002 SES Performance Review Board

The following individuals have been appointed to serve on the Department of Interior 2002 Performance Review Board.

Mary K. Adler—Deputy Inspector General

Edith R. Blackwell—Deputy Assoc Solicitor—Indian Affairs

Brian P. Burns—Chief Information Officer

Terry R. Carlstrom—Field Director, National Capital Field Area

Horace J. Clark—Southeast Regional Solicitor (Atlanta)

Robert D. Comer—Associate Solicitor (Land and Water Resources)

Walter D. Cruickshank—Deputy Director, Minerals Management Service

Sharon Eller—Assistant Inspector General for Management and Policy

Pamela K. Haze—Deputy Director, Office of Budget

Paul W. Henne—Assistant Director—Business Management and Operations

James M. Hughes—Assistant Director for Policy & External Affairs

Donald Murphy—Deputy Director

Jonathan B. Jarvis—Field Director, Pacific West Area

Arthur D. Jones—Deputy Director, Internal Management

Daniel H. Jorjani—Special Assistant and Counselor to the Asst Secretary

Roger LaRouche—Assistant Inspector General for Audits

Phillip P. Leahy—Associate Director for Geology

Aurene Martin—Deputy Assistant Secretary—Indian Affairs

David A. Montoya—Assistant Inspector General for Investigations

Michael D. Nedd—State Director, Eastern State Office

Glenda Owens—Deputy Director

Mamie Parker—Regional Director—Hadley

Clinton M. Riley—Special Assistant

William Rinne—Director, Operations

Michael Rolutti—Director, Technical Service Center

David P. Russ—Regional Geologist, Eastern Region

Carol L. Sampson—Deputy Director for Finance and Administration

Christine M. Schabacker—Counselor to the Assistant Secretary

Denise E. Sheehan—Asst Director—Budget, Planning and Human Resources

Margaret Sibley—Director, Office of Policy

George T.C. Skibine—Director, Office of Indian Gaming Management

Michael R. Smith—Director, Office of Tribal Services

Paul Smyth—Deputy Assoc Solicitor—Land and Water

Willie R. Taylor—Director, Office of Environmental Policy Compliance

Robyn Thorson—Assistant Director—External Affairs

Michael Tollefson—Park Manager, Great Smokey Mountains National Park

Michael J. Trujillo—Dep Asst Secretary for Human Resources & Workforce Diversity

Sarah E. Wisely—State Director, Utah

Robert W. Wolf—Director, Program, Budget and Liaison

Elaine Y. Zielinski—State Director, Arizona

Dated: November 8, 2002.
Carolyn Cohen,
Director of Personnel Policy.

[FR Doc. 02-29051 Filed 11-14-02; 8:45 am]

BILLING CODE 4310-10-P